DEPARTMENT OF LABOR

Employment and Training Administration

[TA-W-56,680]

Industrial Metal Products, Lansing, Michigan; Notice of Termination of Investigation

Pursuant to Section 221 of the Trade Act of 1974, as amended, an investigation was initiated on March 4, 2005 in response to a petition filed by a state agent representative on behalf of workers at Industrial Metal Products, Lansing, Michigan.

The petitioner has requested that the petition be withdrawn. Consequently, the investigation has been terminated.

Signed at Washington, DC this 7th day of April, 2005.
Linda G. Poole,
Certifying Officer, Division of Trade Adjustment Assistance.

[FR Doc. E5-2115 Filed 5-2-05; 8:45 am]

BILLING CODE 4510-30-P